DEPARTMENT OF HEALTH AND HUMAN SERVICES

Centers for Disease Control and Prevention

[30 Day-56-03]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Risk Factors for Microbial Contamination of Produce: A Field Study of Domestic and Imported Produce in Packing Sheds (OMB No. 0920-0487)—Reinstatement—National Center for Environmental Health (NCEH), Centers for Disease Control and Prevention (CDC).

Background

Foodborne diseases are common; an estimated 6-33 million cases occur each year in the United States. Although most of these infections cause mild illness, severe infections and serious complications do occur. The public health challenges of foodborne diseases are changing rapidly. In recent years, new and emerging foodborne pathogens have been described and changes in food production have led to new food safety concerns. Foodborne diseases have been associated with many different foods, including recent outbreaks linked to contaminated fresh fruits (e.g., cantaloupe, strawberries) and vegetables (e.g., leaf lettuce, alfalfa sprouts).

NCEH proposes to conduct a study to determine what specific produce processing practices are associated with fecal contamination of fruits and vegetables. Handling and processing methods used in the produce industry may increase the risk that these foods will become contaminated with fecal matter. The study will describe the chain of processing-shipping practices for five vulnerable produce groups (leafy greens, leafy herbs, green onions, cabbage, melon/cantaloupe). Critical practices where contamination with foodborne pathogens is likely will be identified by measuring the microbial quality of produce at each step during processing. Sources of fecal contamination will be determined by measuring the microbial quality of process water, measuring fecal indicator organisms on hand rinses from packing shed laborers, and conducting sanitary surveys of sources of human and animal feces in and around the processing areas.

CDC, National Center for Environmental Health is requesting a three-year clearance. The total burden hours is estimated to be 172.5.

Respondents | Number of respondents | Number of responses/ respondent | Avg. burden/response (in hours)
Packing Facility Recruiting visit | 25 | 1 | 30/60
Packing Shed Manager Interview (in person) | 20 | 6 | 30/60
Hand Rinse Sample Collection | 100 | 6 | 10/60

Dated: July 24, 2003.
Laura Y. Martin,
Acting Associate Director for Policy, Planning and Evaluation, Centers for Disease Control and Prevention.

[FR Doc. 03-19576 Filed 7-31-03; 8:45 am]

BILLING CODE 4163-18-P